DEPARTMENT OF HEALTH AND HUMAN SERVICES

Administration for Children and Families

[CFDA Number: 93.676]

Announcement of Intent To Issue Two Replacement Awards To Provide Residential Services (Shelter)

AGENCY: Office of Refugee Resettlement (ORR), Administration for Children and Families (ACF), Department of Health and Human Services (HHS).

ACTION: Notice of issuance of two replacement awards to Southwest Key Programs, Incorporated (SWK, Inc.).

SUMMARY: ACF, ORR announces the issuance of two replacement awards to SWK, Inc. in the amount of up to $178,007,159. On September 17, 2021, Comprehensive Health Services, LLC (CHS) relinquished two federally funded discretionary grants. Per HHS policy, ORR identified current recipient SWK, Inc. to transfer the current permanent capacity to provide shelter for apprehensions of Unaccompanied Children (UC) at the Southwest Border. The continuation of permanent capacity is a prudent step to ensure that ORR is able to meet its responsibility, by law, to provide shelter and appropriate services for UC referred to its care by the Department of Homeland Security. The purpose of these awards is to ensure the continuation of residential services for the capacity of 1,312 shelter beds for UC.

DATES: The proposed period of performance is December 1, 2021-September 30, 2022.

FOR FURTHER INFORMATION CONTACT: Stephen Antkowiak, Office of Refugee Resettlement, Division of Unaccompanied Children Operations, 330 Street SW, Washington, DC 20447. Phone: 202-260-6165. Email: stephen.antkowiak@acf.hhs.gov.

SUPPLEMENTARY INFORMATION: ORR announces the intent to award the following replacement awards:

Original recipient | Recipient | Location (city, ST) | Award amount
CHS | SWK, Inc | Los Fresnos, TX | up to $93,837,082.
CHS | SWK, Inc | El Paso, TX | up to $84,170,077.

ORR is continuously monitoring its capacity to shelter UC referred to HHS, as well as the information received from interagency partners, to inform any future decisions or actions. ORR has specific requirements for the provision of services. Award recipients must have the infrastructure, licensing, experience, and appropriate level of trained staff to meet those requirements.

Statutory Authority: This program is authorized by—

(A) Section 462 of the Homeland Security Act of 2002, which in March 2003, transferred responsibility for the care and custody of UC from the Commissioner of the former Immigration and Naturalization Service to the Director of ORR within HHS.

(B) The Flores Settlement Agreement, Case No. CV85-4544-RJK (C.D. Cal. 1996), as well as the William Wilberforce Trafficking Victims Protection Reauthorization Act of 2008 (Pub. L. 110-457), which authorizes post-release services under certain conditions to eligible children. All programs must comply with the Flores Settlement Agreement, Case No. CV85-4544-RJK (C.D. Cal. 1996); pertinent regulations; and ORR policies and procedures.

Elizabeth Leo,
Senior Grants Policy Specialist, Office of Grants Policy, Office of Administration.

[FR Doc. 2021-25973 Filed 11-29-21; 8:45 am]

BILLING CODE 4184-45-P